DEPARTMENT OF TRANSPORTATION

Maritime Administration

[Docket No. MARAD-2018-0114]

Deepwater Port License Application: Texas Gulf Terminals Inc.

AGENCY: Maritime Administration, U.S. Department of Transportation.

ACTION: Notice of application withdrawal.

SUMMARY: The Maritime Administration (MARAD) and the U.S. Coast Guard (USCG) announce the cancellation of all actions related to the processing of a license application for the proposed Texas Gulf Terminals Inc. (TGTI) deepwater port. The action announced here also includes cancellation of all activities related to the deepwater port application review and preparation of an Environmental Impact Statement that was announced on Friday, August 10, 2018, in Federal Register Volume 83 Number 39813 (Notice of Intent; Notice of Public Meeting; Request for Comments). The action is taken in response to the applicant's decision to withdraw the application.

DATES: The cancellation of all actions related to this deepwater port license application was effective March 6, 2020.

ADDRESSES: The public docket for the TGTI deepwater port license application is maintained by the U.S. Department of Transportation, Docket Management Facility, West Building, Ground Floor, Room W12-140, 1200 New Jersey Avenue SE, Washington, DC 20590. The docket may be viewed electronically at www.regulations.gov under the docket number for this project, which is MARAD-2018-0114. The Federal Docket Management Facility's telephone number is 202-366-9317 or 202-366-9826, the fax number is 202-493-2251.

FOR FURTHER INFORMATION CONTACT: Mr. Roddy Bachman, USCG, telephone: 202-372-1451, email: Roddy.C.Bachman@uscg.mil; or Ms. Yvette Fields, MARAD, telephone: 202-366-0926, email: Yvette.Fields@dot.gov.

SUPPLEMENTARY INFORMATION: On February 28, 2020, MARAD received notification from the applicant, TGTI, of the withdrawal of its application to own, construct, and operate an oil export deepwater port facility, located approximately 12.7 nautical miles off the coast of Corpus Christi, Texas in a water depth of approximately 93 feet. Consequently, MARAD has terminated all activities pertaining to TGTI's deepwater port license application. All agency records and documents related to the TGTI deepwater port license application will be preserved and retained by MARAD and USCG. Further information pertaining to this application may be found in the public docket (see ADDRESSES).

(Authority: 33 U.S.C. 1501 et seq., 49 CFR 1.93(h)).

Dated: March 11, 2020.
By Order of the Maritime Administrator.
T. Mitchell Hudson, Jr.,
Secretary, Maritime Administration.

[FR Doc. 2020-05343 Filed 3-13-20; 8:45 am]

BILLING CODE 4910-81-P